DEPARTMENT OF VETERANS AFFAIRS

Veterans' Disability Benefits Commission, Notice of Meeting

The Department of Veterans Affairs (VA) gives notice under Public Law 92-463 (Federal Advisory Committee Act) that the Veterans' Disability Benefits Commission has scheduled a meeting for April 19-20, 2007 in the Almas Temple, adjacent to the Hamilton Crowne Plaza Hotel, at 1315 K Street, NW., Washington, DC 20005. The meeting will begin at 8:30 a.m. and end at 5 p.m. each day. The meeting is open to the public.

The purpose of the Commission is to carry out a study of the benefits under the laws of the United States that are provided to compensate and assist veterans and their survivors for disabilities and deaths attributable to military service.

The agenda for the meeting will feature updates on the progress of the studies being conducted by the Center for Naval Analyses (CNA) and the Institute of Medicine (IOM). The Commission will receive presentations on CNA's preliminary survey results and several draft Issue Papers in various stages of development. There will be additional discussions with CNA on the topic of earned income, employment and compensation. The Commission will also receive comments from interested parties on the research topics approved for study and analysis by the Commission on October 14, 2005, and posted on the Commission's Web site during March 2007 for public comment.

Interested persons may attend and present oral statements to the Commission on April 19. Oral presentations will be limited to five minutes or less, depending on the number of participants. Interested parties may also provide written comments for review by the Commission prior to the meeting or at any time by e-mail to veterans@vetscommission.com or by mail to Mr. Ray Wilburn, Executive Director, Veterans' Disability Benefits Commission, 1101 Pennsylvania Avenue, NW., 5th Floor, Washington, DC 20004.

Dated: March 14, 2007.
By Direction of the Secretary.
E. Philip Riggin,
Committee Management Officer.

[FR Doc. 07-1392 Filed 3-21-07; 8:45 am]

BILLING CODE 8320-01-M